SOCIAL SECURITY ADMINISTRATION

[Docket No. SSA 2016-0026]

Privacy Act of 1974, as Amended; Computer Matching Program (SSA/Department of Defense (DoD), Defense Manpower Data Center (DMDC))—Match Number 1004

AGENCY: Social Security Administration (SSA).

ACTION: Notice of a renewal of an existing computer matching program that will expire on September 14, 2016.

SUMMARY: In accordance with the provisions of the Privacy Act, as amended, this notice announces a renewal of an existing computer matching program that we are currently conducting with DoD.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Acting Executive Director, Office of Privacy and Disclosure, Office of the General Counsel, Social Security Administration, 617 Altmeyer Building, 6401 Security Boulevard, Baltimore, MD 21235-6401. All comments received will be available for public inspection at this address.

FOR FURTHER INFORMATION CONTACT: The Acting Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Glenn Sklar,
Acting Executive Director, Office of Privacy and Disclosure, Office of the General Counsel.

Notice of Computer Matching Program, SSA with the Department of Defense (DoD)

A. Participating Agencies:

SSA and DoD.

B. Purpose of the Matching Program:

The purpose of this matching agreement is to establish the terms, conditions, and safeguards under which DoD will conduct computer matching with the Social Security Administration (SSA) to verify information provided to SSA by recipients, and applicants thereof, of Supplemental Security Income (SSI) payments; and beneficiaries of Special Veterans Benefits (SVB) benefits, and applicants thereof. The SSI and SVB recipient/beneficiary provides information about eligibility/entitlement factors and other relevant information. We obtain additional information as necessary before making any determinations of eligibility/payment or entitlement/benefit amounts or adjustments thereto. With respect to military retirement payments to SSI recipients and SVB beneficiaries who are retired members of the Uniformed Services or their survivors, we will accomplish this task by computer matching with DoD/DMDC.

C. Authority for Conducting the Matching Program:

The legal authority for this exchange is sections 806(b) and 1631(e)(1)(B) and (f) of the Social Security Act (Act) (42 U.S.C. 1006(b) and 1383(e)(1)(B) and (f)). Our legal authority to disclose data to DoD/DMDC is section 1106(a) of the Act (42 U.S.C. 1306(a)) and the Privacy Act of 1974 (5 U.S.C. 552a(b)(3)).

D. Categories of Records and Persons Covered by the Matching Program:

We will provide DoD/DMDC with an electronic query file. Upon receipt of the electronic file, DoD/DMDC will perform a computer match using all nine digits of the Social Security Number against the DMDC database. These records include retired members of the Uniformed Services (not including Public Health) and their survivors entitled to Survivor Benefits.

E. Inclusive Dates of the Matching Program:

The effective date of this matching program is September 14, 2016 provided that the following notice periods have lapsed: 30 days after publication of this notice in the Federal Register and 40 days after notice of the matching program is sent to Congress and OMB. The matching program will continue for 18 months from the effective date and, if both agencies meet certain conditions, it may extend for an additional 12 months thereafter.

[FR Doc. 2016-18989 Filed 8-9-16; 8:45 am]

BILLING CODE 4191-02-P